Title 3—

The President

Proclamation 8114 of March 19, 2007

To Implement Modifications to the Caribbean Basin Economic Recovery Act and the African Growth and Opportunity Act and for Other Purposes

By the President of the United States of America

A Proclamation

1. Section 5002 of the Haitian Hemispheric Opportunity through Partnership Encouragement Act of 2006 (Division D, Title V of Public Law 109-432)(the “HOPE Act”), which amends the Caribbean Basin Economic Recovery Act (Title II of the Trade and Development Act of 2000, Public Law 106-200)(CBERA), provides that preferential tariff treatment may be provided to certain articles that are imported directly from Haiti into the customs territory of the United States, provided the President determines that Haiti meets the eligibility requirements of section 213A(d) of CBERA, as amended (19 U.S.C. 2703a(d)), and Haiti is meeting the conditions regarding enforcement of circumvention set forth in section 213A(e) of CBERA, as amended (19 U.S.C. 2703a(e)(1)).

2. Section 6002 of the Africa Investment Incentive Act of 2006 (Division D, Title VI of Public Law 109-432) amends section 112 of the African Growth and Opportunity Act (Title I of the Trade and Development Act of 2000, Public Law 106-200)(AGOA) to modify the preferential tariff treatment accorded to designated lesser developed beneficiary sub-Saharan African countries.

3. Pursuant to section 213A(d) of CBERA, as amended (19 U.S.C. 2703a(d)), I have determined that Haiti meets the eligibility requirements set forth in section 213A(d)(1).

4. Pursuant to section 213A(e) of CBERA, as amended (19 U.S.C. 2703a(e)), I have determined that Haiti is meeting the conditions set forth therein.

5. In order to implement the tariff treatment provided under section 213A of CBERA, as amended (19 U.S.C. 2703a), and section 112(b)(8) and 112(c) of AGOA, as amended (19 U.S.C. 3721(b)(8) and (c)), it is necessary to modify the Harmonized Tariff Schedule of the United States (HTS).

6. Title I, subtitles A and B of the Tax Relief and Health Care Act of 2006 (Public Law 109-432)(the “Tax Relief Act”) suspended or reduced duties on certain articles that were identified under provisions of the HTS in effect on December 20, 2006. Presidential Proclamation 8097 of December 27, 2006, modified the HTS to conform it to the International Convention on the Harmonized Commodity Description and Coding System. Modifications to the HTS are necessary to reflect accurately the suspension or reduction of duties that were enacted in the Tax Relief Act.

7. Section 604 of the Trade Act of 1974, as amended (the “1974 Act”) (19 U.S.C. 2483), authorizes the President to embody in the HTS the substance of relevant provisions of that Act, or other acts affecting import treatment, and of actions taken thereunder, including the removal, modification, continuance, or imposition of any rate of duty or other import restriction.

8. I have determined that it is appropriate to authorize the Secretary of the Treasury to perform the functions specified in section 213A(f) of CBERA, as amended (19 U.S.C. 2703a(f)).

NOW, THEREFORE, I, GEORGE W. BUSH, President of the United States of America, acting under the authority vested in me by the Constitution and the laws of the United States of America, including section 604 of the 1974 Act, and section 301 of title 3, United States Code, do proclaim that:

(1) In order to provide the tariff treatment provided for in section 213A of CBERA, as amended (19 U.S.C. 2703a), the HTS is modified as provided in Annex I to this proclamation.

(2) In order to implement the tariff treatment provided for in section 112(b)(8) and section 112(c) of AGOA, as amended (19 U.S.C. 3721(b)(8) and (c)), the HTS is modified as provided in Annex II to this proclamation.

(3) In order to provide the tariff treatment provided for in Title I, subtitles A and B of the Tax Relief Act, and to make technical corrections to previously proclaimed provisions, the HTS is modified as provided in Annex III to this proclamation.

(4) The modifications to the HTS set forth in the annexes to this proclamation shall be effective with respect to articles entered, or withdrawn from warehouse for consumption, on or after the dates set forth in the respective annex.

(5) The Secretary of the Treasury is hereby authorized to perform the functions assigned to the President in section 213A(f) of CBERA, as amended (19 U.S.C. 2703a(f)).

(6) Any provisions of previous proclamations and Executive Orders that are inconsistent with the actions taken in this proclamation are superseded to the extent of such inconsistency.

IN WITNESS WHEREOF, I have hereunto set my hand this nineteenth day of March, in the year of our Lord two thousand seven, and of the Independence of the United States of America the two hundred and thirty-first.

Billing code 3195-01-P

[FR Doc. 07-1442

Filed 3-21-07; 8:45 am]

Billing code 3190-01-C